DEPARTMENT OF THE TREASURY

Public Meeting of the President's Advisory Panel on Federal Tax Reform

AGENCY: Department of the Treasury.

ACTION: Change in meeting date.

SUMMARY: This notice advises all interested persons of change in the date of a public meeting of the President's Advisory Panel on Federal Tax Reform.

DATES: This meeting scheduled to be held on Friday, September 23, 2005, has been postponed. This meeting will be rescheduled and announced at a later date.

FOR FURTHER INFORMATION CONTACT: The Panel staff at (202) 927-2TAX (927-2829) (not a toll-free call) or e-mail info@taxreformpanel.gov (please do not send comments to this box). Additional information is available at http://www.taxreformpanel.gov.

Dated: September 12, 2005.
Mark S. Kaizen,
Designated Federal Officer.

[FR Doc. 05-18356 Filed 9-13-05; 8:45 am]

BILLING CODE 4811-33-M